DEPARTMENT OF LABOR

Employment and Training Administration

[TA-W-38,646]

CSC Ltd Warren, OH; Including an Employee of CSC Ltd, Warren, OH Located in Franklin Park, IL; Amended Certification Regarding Eligibility To Apply for Worker Adjustment Assistance

In accordance with section 223 of the Trade Act of 1974 (19 U.S.C. 2273) the Department of Labor issued a Certification of Eligibility to Apply for Worker Adjustment Assistance on April 12, 2001, applicable to workers of CSC Ltd, Warren, Ohio. The notice was published in the Federal Register on May 2, 2001 (66 FR 22007).

At the request of a petitioner, the Department reviewed the certification for workers of the subject firm. New information shows that a worker separation occurred involving an employee of the CSC Ltd, Warren, Ohio facility located in Franklin Park, Illinois. This employee was engaged in employment related to the production of SBQ steel bar at the Warren, Ohio location of the subject firm.

Based on these findings, the Department is amending this certification to include an employee of the CSC Ltd, Warren, Ohio located in Franklin Park, Illinois.

The intent of the Department's certification is to include all workers of CSC Ltd. adversely affected by increased imports.

The amended notice applicable to TA-W-38,646 is hereby issued as follows:

All workers of CSC Ltd., Warren, Ohio, including a worker CSC, Ltd., Warren, Ohio located in Franklin Park, Illinois, who became totally or partially separated from employment on or after January 22, 2000, through April 12, 2003, are eligible to apply for adjustment assistance under section 223 of the Trade Act of 1974.

Signed at Washington, DC, this 8th day of January, 2002.
Linda G. Poole,
Certifying Officer, Division of Trade Adjustment Assistance.

[FR Doc. 02-2348 Filed 1-30-02; 8:45 am]

BILLING CODE 4510-30-M